DEPARTMENT OF COMMERCE

International Trade Administration

[A-449-804]

Notice of Final Results of Antidumping Duty Administrative Review: Steel Concrete Reinforcing Bars from Latvia

AGENCY: Import Administration, International Trade Administration, Department of Commerce.

SUMMARY: On August 15, 2003, the Department of Commerce (the Department) published the preliminary results of its first administrative review of the antidumping duty order on steel concrete reinforcing bars (rebar) from Latvia. The review covers one producer of the subject merchandise. The period of review (POR) is January 30, 2001, through August 31, 2002. Based on our analysis of comments received, these final results differ from the preliminary results. The final results are listed below in the Final Results of Review section.

EFFECTIVE DATE: December 22, 2003.

FOR FURTHER INFORMATION CONTACT: James Kemp or Daniel O'Brien, at (202) 482-5346 or (202) 482-1376, respectively; AD/CVD Enforcement, Office 5, Group II, Import Administration, International Trade Administration, U.S. Department of Commerce, 14th Street & Constitution Avenue, NW, Washington, DC 20230.

SUPPLEMENTARY INFORMATION:

Background

On August 15, 2003, the Department published in the Federal Register the preliminary results of the first administrative review of the antidumping duty order on rebar from Latvia. See Notice of Preliminary Results of Antidumping Duty Administrative Review: Steel Concrete Reinforcing Bars from Latvia, 68 FR 48880 (August 15, 2003) (Preliminary Results).

We invited parties to comment on the Preliminary Results. On September 15, 2003, we received case briefs from the sole respondent, Joint Stock Company Liepajas Metalurgs (Liepajas Metalurgs), and the petitioner, the Rebar Trade Action Coalition. Both parties submitted rebuttal briefs on September 22, 2003. A public hearing was not held, as none was requested.

Scope of the Order

For purposes of this order, the product covered is all steel concrete reinforcing bars sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and customs purposes. The written description of the scope of this proceeding is dispositive.

Analysis of Comments Received

The issues raised in the case briefs by parties to this administrative review are addressed in the Issues and Decision Memorandum to James J. Jochum, Assistant Secretary for Import Administration, from Holly A. Kuga, Acting Deputy Assistant Secretary (Decision Memorandum), which is hereby adopted by this notice. A list of the issues addressed in the Decision Memorandum is appended to this notice. The Decision Memorandum is on file in Room B-099 of the main Commerce building, and can also be accessed directly on the Web at www.ia.ita.doc.gov. The paper copy and electronic version of the Decision Memorandum are identical in content.

Changes Since the Preliminary Results

Based on our analysis of comments received, we have made one adjustment to the methodology used in calculating the final dumping margin in this proceeding. The adjustment is discussed in detail in the Decision Memorandum. For the final results, we have continued to use non-adverse facts available in lieu of certain missing information. Specifically, we have now matched the U.S. sales without identical matches to sales of similar merchandise in the home market, instead of using constructed value.

Final Results of Review

As a result of our review, we determine that the following weighted-average margin exists for the period of January 30, 2001, through August 31, 2002:

Producer | Weighted-Average Margin (Percentage)
Joint Stock Company Liepajas Metalurgs | 0.87

Assessment

The Department will determine, and U.S. Customs and Border Protection (CBP) shall assess, antidumping duties on all appropriate entries, pursuant to 19 CFR 351.212(b). The Department calculated importer-specific duty assessment rates on the basis of the ratio of the total amount of antidumping duties calculated for the examined sales to the total entered value of the examined sales for that importer. Since the delivery terms for all of Liepajas Metalurgs' U.S. sales were FOB Latvian seaport, we calculated entered value using the gross unit price reported in the U.S. sales database. Where the assessment rate is above de minimis, we will instruct CBP to assess duties on all entries of subject merchandise by that importer. The Department will issue appropriate assessment instructions directly to CBP within 15 days of publication of these final results of review.

Cash Deposits

Furthermore, the following deposit requirements will be effective upon publication of the final results of this administrative review for all shipments of rebar from Latvia entered, or withdrawn from warehouse, for consumption on or after the publication date of these final results, as provided by section 751(a) of the Tariff Act of 1930, as amended (the Act): (1) for companies covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 17.21 percent, the “All Others” rate established in the less-than-fair-value investigation. These deposit requirements shall remain in effect until publication of the final results of the next administrative review.

This notice also serves as a final reminder to importers of their responsibility under 19 CFR 351.402 (f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: December 15, 2003.
James J. Jochum,
Assistant Secretary for Import Administration.

APPENDIX

Comment 1: The Use of Adverse Facts Available or an Alternative Neutral Facts Available in the Final Results

Comment 2: Ministerial Error

[FR Doc. E3-00605 Filed 12-19-03; 8:45 am]

BILLING CODE 3510-DS-S